DEPARTMENT OF HEALTH AND HUMAN SERVICES

Center for Medicare and Medicaid Services

[HCFA-906]

Agency Information Collection Activities: Submission for OMB Review; Comment Request

In compliance with the requirement of section 3506(c)(2)(A) of the Paperwork Reduction Act of 1995, the Center for Medicare and Medicaid Services (CMS), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a Currently Approved Collection; Title of Information Collection: The National Data Reporting Requirements (NDRR). We are requesting the name of the collection be changed to the Fiscal Soundness Reporting Requirements (FSRR) and Supporting Regulations in 42 CFR 417., .126.478,. 162; Form No.: HCFA-906 (OMB# 0938-0469); Use: HCFA needs this information to establish an on-going fiscal soundness of the Managed Care Organizations in the Medicare + Choice Program; Frequency: Quarterly; Affected Public: Business or other for-profit; Number of Respondents: 300; Total Annual Responses: 300; Total Annual Hours: 301.

To obtain copies of the supporting statement for the proposed paperwork collections referenced above, access HCFA's WEB SITE ADDRESS at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address:OMB Human Resources and Housing Branch, Attention: Allison Eydt, New Executive Office Building, Room 10235, Washington, DC 20503.

Dated: September 27, 2001.
John P. Burke III,
CMS Reports Clearance Officer, CMS, Office of Information Services, Security and Standards Group, Division of CMS Enterprise Standards.

[FR Doc. 01-25545 Filed 10-10-01; 8:45 am]

BILLING CODE 4120-03-P